DEPARTMENT OF TRANSPORTATION

Office of the Secretary

Notice of Applications for Certificates of Public Convenience and Necessity and Foreign Air Carrier Permits Filed Under Subpart B (Formerly Subpart Q) During the Week Ending October 24, 2009

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0267.

Date Filed: October 23, 2009.

Due Date for Answers, Conforming Applications, or Motion to Modify Scope: November 13, 2009.

Description: Application of Atlas Air, Inc. (“Atlas”) requesting a certificate of public convenience and necessity authorizing Atlas to engage in foreign charter air transportation of persons, property and mail. Atlas further requests an exemption to permit Atlas to conduct foreign charter air transportation of persons, property and mail for an initial period of one year or until the grant of the requested certificate authority, whichever is earlier.

Docket Number: DOT-OST-2009-0268.

Date Filed: October 23, 2009.

Due Date for Answers, Conforming Applications, or Motion to Modify Scope: November 13, 2009.

Description: Application of Atlas Air, Inc. (“Atlas”) requesting a certificate of public convenience and necessity authorizing Atlas to engage in interstate charter air transportation of persons, property and mail.

Renee V. Wright,
Program Manager, Docket Operations, Federal Register Liaison.

[FR Doc. E9-26906 Filed 11-6-09; 8:45 am]

BILLING CODE 4910-9X-P